DEPARTMENT OF ENERGY

Federal Energy Regulatory Commission

[Docket No. RP04-226-000]

Columbia Gulf Transmission Company; Notice of Proposed Changes in FERC Gas Tariff

March 26, 2004.

Take notice that on March 23, 2004, Columbia Gulf Transmission Company (Columbia Gulf) tendered for filing as part of its FERC Gas Tariff, Second Revised Volume No. 1, Seventh Revised Sheet No. 145, with a proposed effective date of April 22, 2004.

Columbia Gulf states it is making the filing to revise its right of first refusal (ROFR) provisions in General Terms and Conditions section 4 of its Tariff to more explicitly delineate when a shipper must exercise its ROFR, through making the timeline for exercising ROFR where there are no bids for capacity comparable to the existing timeline for exercising ROFR when bids have been received.

Columbia Gulf states that copies of its filing have been mailed to all firm customers, interruptible customers, and affected State commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-723 Filed 3-31-04; 8:45 am]

BILLING CODE 6717-01-P